DEPARTMENT OF COMMERCE

National Oceanic and Atmospheric Administration

[Docket No. 000204026-0136-02; I.D. 121799A]

RIN 0648-AN48

Tautog; Interstate Fishery Management Plans; Cancellation of Moratorium

AGENCY: National Marine Fisheries Service (NMFS), National Oceanic and Atmospheric Administration (NOAA), Commerce.

ACTION: Notice of determination of compliance; cancellation of moratorium.

SUMMARY: The Secretary of Commerce (Secretary) announces the cancellation of the Federal moratorium on fishing for tautog in the coastal waters of the State of Rhode Island that would have been implemented on June 15, 2000. The Secretary has canceled the moratorium as required by the Atlantic Coastal Fisheries Cooperative Management Act (Act), based on his determination that the State of Rhode Island is now in compliance with the Atlantic States Marine Fisheries Commission's (Commission) Interstate Fishery Management Plan (ISFMP) for tautog, after the Commission had notified the Secretary that it was withdrawing its determination of noncompliance.

DATES: Effective May 30, 2000.

FOR FURTHER INFORMATION CONTACT: Richard H. Schaefer, Chief, Staff Office for Intergovernmental and Recreational Fisheries, NMFS, 301-427-2014.

SUPPLEMENTARY INFORMATION:

Background

On February 15, 2000, NMFS published a document in the Federal Register (FR) (65 FR 7508) announcing the Secretary's determination that the State of Rhode Island was not in compliance with the Commission's ISFMP for tautog for not implementing and enforcing the recreational bag limit contained in the ISFMP for tautog. In the document a moratorium was declared on fishing for tautog in Rhode Island state waters that would be made effective on June 15, 2000, if Rhode Island was not in compliance by June 1, 2000. Details were provided in the February 15, 2000, FR document and are not repeated here.

The Act specifies that, if, after a moratorium is declared with respect to a State, the Secretary is notified by the Commission that it is withdrawing the determination of noncompliance, the Secretary shall immediately determine whether the State is in compliance with the applicable plan. If the State is determined to be in compliance, the moratorium shall be terminated.

Activities Pursuant to the Act

On April 28, 2000, the Secretary received a letter from the Commission prepared pursuant to the Act. The Commission's letter stated that the State of Rhode Island had taken corrective action to comply with the Commission's ISFMP for tautog, and, therefore, the Commission was withdrawing its determination of noncompliance.

Cancellation of the Moratorium

Based on the Commission's April 28, 2000, letter, information received from the State of Rhode Island, and the Secretary's review of Rhode Island's revised regulations, which adopted a recreational bag limit of 3 tautog from May 1—October 14 annually, and 10 tautog from October 15—December 31 annually with a size limit of 16 inches total length, the Secretary concurs with the Commission's determination that Rhode Island is now in compliance with the Commission's ISFMP for tautog. This combination of measures is listed in Table 14 of the ISFMP for tautog as an acceptable means of achieving the required recreational harvest reduction. This combination achieves a 57-percent reduction whereas the ISFMP requires a 55-percent reduction. Therefore, the moratorium on fishing for these species in Rhode Island waters is canceled.

Dated: May 22, 2000.
Penelope D. Dalton,
Assistant Administrator for Fisheries, National Marine Fisheries Service.

[FR Doc. 00-13373 Filed 5-26-00; 8:45 am]

BILLING CODE 3510-22-F